DEPARTMENT OF ENERGY

Federal Energy Regulatory Commission

[Docket No. CP06-102-001]

Trunkline LNG Company, LLC; Notice of Filing

July 24, 2006.

Take notice that on July 18, 2006, Trunkline LNG Company, LLC (Trunkline LNG), P.O. Box 4967, Houston, Texas 77210-4967, filed an application, pursuant to section 3(a) of the Natural Gas Act (NGA) and part 157 of the Commission's Rules and Regulations, to amend its pending application filed on March 31, 2006. Trunkline LNG seeks to revise:

(1) The depreciation rate reflected on Exhibit O and the corresponding annual depreciation expense, (2) the estimated incremental revenues, expenses and income reflected on Exhibit N, and (3) the cost of service, rate derivation and Pro Forma Sheet No. 5 contained in Exhibit P. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Trunkline LNG states that the negotiated rate with its customer, BG LNG Services, LLC (BG LNG), is based on a 40 year depreciable life for the Infrastructure Enhancement Project. The facilities will be new construction and of a durable long-lived nature. Therefore, Trunkline LNG proposes to depreciate the life of the assets over a term of 40 years instead of 20 years as indicated in the March 31, 2006 application. The revision results in the recourse rate decreasing from $1.2616 per Dt to $1.1378 per Dt and the composite depreciation rate of 5.0% will be 2.5%.

Any questions regarding the application are to be directed to William W. Grygar, Vice President of Rates and Regulatory Affairs, 5444 Westheimer Road, Houston, Texas 77056-5306; phone number (713) 989-7000.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: 5 p.m. Eastern Time on August 14, 2006.

Magalie R. Salas,
Secretary.

[FR Doc. E6-12247 Filed 7-28-06; 8:45 am]

BILLING CODE 6717-01-P